DEPARTMENT OF HEALTH AND HUMAN SERVICES

Office of the Secretary

Statement of Organization, Functions and Delegations of Authority

Part A, Office of the Secretary, Statement of Organization, Functions, and Delegations of Authority of the Department of Health and Human Services (HHS) is being amended at chapter AA, Immediate Office of the Secretary, as last amended at 67 FR 48903-05, 7/26/02. This reorganization is to establish a new chapter AAC, “Office on Disability (OD)” within the Office of the Secretary. The Office on Disability will serve as the focal point within HHS for the implementation and coordination of policies, programs, and special initiatives related to disabilities within the Department and with other federal agencies. The changes are as follows:

I. Under part A, Office of the Secretary, chapter AA, make the following changes:

A. Under chapter AA, section AA.10 “Organization,” add the following new component: Office on Disability (AAC).

B. Under chapter AA, establish a new chapter AAC, “Office on Disability (OD)” to read as follows:

Office on Disability

AAC.00 Mission

AAC.10 Organization

AAC.20 Functions

Section AAC.00 Mission: The Office on Disability (OD) oversees the implementation and coordination of disability programs, policies, and special initiatives. The Office will heighten the interaction of programs within HHS and with federal, state, community and valuable private sector partners. The Office will support plans and initiatives designed to tear down barriers facing people with disabilities, which prevent them from fully participating and contributing in an inclusive community life.

Section AAC.10 Organization: The Office on Disability (OD) is headed by a Director, who reports to the Secretary, and serves as an advisor on HHS activities relating to disabilities.

Section AAC.20 Functions: The Office of Disability (OD) includes the following activities: The OD advises the Secretary on matters relating to implementation and coordination of policies, disability-related programs, and special disability-focused initiatives within the Department and with other federal agencies; and the Office will serve as the focal point within the Department for disabilities issues, including the coordination of disability policy, programs and special disability-related initiatives within the Department and with other Federal agencies. The Deputy Director of the Office on Disability assists the Director in carrying out the responsibilities of the Office and acts as Director in the absence of the Director.

Dated: November 13, 2002.
Ed Sontag,
Assistant Secretary for Administration Management.

[FR Doc. 02-29715 Filed 11-21-02; 8:45 am]

BILLING CODE 4150-03-M